FEDERAL ELECTION COMMISSION

Sunshine Act; Meeting

AGENCY: Federal Election Commission.

Date & Time: Tuesday, April 23, 2002 at 10 a.m.

Place: 999 E Street, NW., Washington, DC

Status: This meeting will be closed to the public.

Items To Be Discussed: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

Date & Time: Thursday, April 25, 2002 at 10 a.m.

Place: 999 E Street NW., Washington, DC (Ninth Floor)

Status: This meeting will be open to the public.

Items To Be Discussed: Correction and Approval of Minutes.

Draft Advisory Opinion 2002-04: Austin, Nichols & Co., Incorporated; d/b/a Pernod Ricard USA, by counsel, Brett G. Kappel.

Administrative Matters.

Person to Contact for Information: Mr. Ron Harris, Press Officer, Telephone: (202) 694-1220.

Mary W. Dove,
Secretary of the Commission.

[FR Doc. 02-9624 Filed 4-16-02; 11:19 am]

BILLING CODE 6715-01-M